DEPARTMENT OF COMMERCE

International Trade Administration

U.S. Travel and Tourism Advisory Board: Meeting of the U.S. Travel and Tourism Advisory Board

AGENCY: International Trade Administration, U.S. Department of Commerce.

ACTION: Notice of an open meeting.

SUMMARY: The U.S. Travel and Tourism Advisory Board (Board) will hold a meeting to discuss topics related to the travel and tourism industry. The Board was re-chartered on September 21, 2007, to advise the Secretary of Commerce on matters relating to the travel and tourism industry.

DATES: May 20, 2008.

Time: 10 a.m. EST.

ADDRESSES: Department of Commerce, 1401 Constitution Avenue, NW., Room 4830, Washington, DC, 20230. Because of building security, all non-government attendees must pre-register. This program will be physically accessible to people with disabilities. Seating is limited and will be on a first come, first served basis. Requests for sign language interpretation, other auxiliary aids, or pre-registration, should be submitted no later than May 13, 2008, to Kate Worthington, U.S. Travel and Tourism Advisory Board, Room 4043, 1401 Constitution Avenue, NW., Washington, DC, 20230, telephone 202-482-4501, Kate.Worthington@mail.doc.gov.

FOR FURTHER INFORMATION CONTACT: Kate Worthington, U.S. Travel and Tourism Advisory Board, Room 4043, 1401 Constitution Avenue, NW., Washington, DC, 20230, telephone: 202-482-4501, e-mail: Kate.Worthington@mail.doc.gov.

Dated: April 30, 2008.
Kate Worthington,
Executive Secretary, U.S. Travel and Tourism Advisory Board.

[FR Doc. 08-1212 Filed 4-30-08; 3:40 pm]

BILLING CODE 3510-DR-P